DEPARTMENT OF AGRICULTURE

Submission for OMB Review; Comment Request

September 10, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by October 16, 2013 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Export Health Certificate For Animal Products.

OMB Control Number: 0579-0256.

Summary of Collection: The Animal Health Protection Act (AHPA) of 2002 is the primary Federal law governing the protection of animal health. The law gives the Secretary of Agriculture board authority to detect, control, or eradicate pests or diseases of livestock or poultry. The export of agricultural commodities, including animals and animal products, is a major business in the United States and contributes to a favorable balance of trade. To facilitate the export of U.S. animals and products, the U.S. Department of Agriculture, Animal and Plant Health Inspection Service (APHIS), Veterinary Services maintains information regarding the import health requirements of other countries for animals and animal products exported from the United States. Many countries that import animal products from the United States require a certification from APHIS that the United States is free of certain diseases. These countries may also require that our certification statement contain additional declarations regarding the U.S. animal products being exported. Form VS-16-4 and VS-16-4A, Export Certificate for Animal Products and Export Certificate for Animal Products Continuation Sheet, a Hearing Request to appeal VS' decision to refuse to grant a certificate, and a Notification of Tampered Certificate can be used to meet these requirements. Regulations pertaining to export certification of animals and animal products are contained in 9 CFR parts 91.

Need and Use of the Information: Form VS 16-4 and VS 16-4A serves as the official certification that the United States is free of rinderpest, foot-and-mouth disease, classical swine fever, swine vesicular disease, African swine fever, bovine fever, bovine spongiform encephalopathy, and contagious bovine pleuropneuomia. APHIS will collect the exporter's name, address, the name and address of the consignee, the quantity, and unit of measure, type of product being exported, the exporter's identification, and type of conveyance (ship, train, and truck) that will transport the products. The form also asks for any declarations the receiving country might require, such as statements concerning where the product originated and how it was processed. Without the information, many countries would not accept animal products from the United States, creating a serious trade imbalance and adversely affecting U.S. exporters.

Description of Respondents: Business or other-for-profit.

Number of Respondents: 42,000.

Frequency of Responses: Reporting: On occasion.

Total Burden Hours: 57,122.

Animal and Plant Health Inspection Service

Title: Importation of Shepherd's Purse with Roots from the Republic of Korea into the United States.

OMB Control Number: 0579-0366.

Summary of Collection: Under the Plant Protection Act (7 U.S.C. 7701 et seq.), the Secretary of Agriculture is authorized to carry out operations or measures to detect, eradicate, suppress, control, prevent, or retard the spread of plant pests new to the United States or not know to be widely distributed throughout the United States. The Animal and Plant Health Inspection Service (APHIS) regulations concerning the importation of fruits and vegetables allow for the importation of fresh shepherd's purse with roots from the Republic of Korea into the United States under a combination of mitigations to reduce the risk of introducing a variety of pests. As a condition of entry, fresh shepherd's purse have to be produced in accordance with a system approach that includes requirements for importation of commercial consignments, pest-free place of production, and inspection for quarantine pests by the National Plant Protection Organization (NPPO) of the Republic of Korea.

Need and Use of the Information: APHIS uses the following information collection activities, phytosanitary certificate, sampling and microscopic inspection, recordkeeping, and production site registration to increase the supply of fresh shepherd's purse without increasing the risk of introducing pests into the United States.

Description of Respondents: Business or other for-profit; Federal Government.

Number of Respondents: 54.

Frequency of Responses: Recordkeeping; Reporting: On occasion.

Total Burden Hours: 163.

Ruth Brown,
Departmental Information Collection Clearance Officer.

[FR Doc. 2013-22409 Filed 9-13-13; 8:45 am]

BILLING CODE 3410-34-P